ENVIRONMENTAL PROTECTION AGENCY

[OPP-66301; FRL-6827-6]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request from the registrant Earth Care, Division of United Industries Corp., (previously Pursell Industries) to cancel its registration for the product Green Up Kerb 50W, EPA Reg. No. 8660-85, which contains the pesticide pronamide. Also under section 6(f)(1) of FIFRA, EPA is issuing a notice of receipt of request from the registrant International Paint Inc., to cancel its registration for the product 673 Black Co-Poly Crab Pot, EPA Reg. No. 23566-17, which contains the pesticide tributyltin methacrylate.

The EPA received these requests for voluntary cancellation as a result of activities related to the tolerance reassessment of pronamide and discussions on potential risks of tributyltin used in antifouling paints, respectively.

DATES: Comments on the requested cancellations must be submitted to the appropriate address provided below April 24, 2002.

ADDRESSES: Comments may be submitted by mail, electronically, or in person. Please follow the detailed instructions for each method as provided in Unit I.C. of the SUPPLEMENTARY INFORMATION. To ensure proper receipt by EPA, it is imperative that you identify docket control number OPP-66301 in the subject line of the first page of your response.

FOR FURTHER INFORMATION CONTACT: For the pronamide product, Cecelia Watson, (703) 305-4329; e-mail address watson.cecelia@epa.gov Special Review and Reregistration Division (7508C), Office of Pesticides Programs, Environmental Protection Agency, 1200 Pennsylvania Ave., NW., Washington, DC 20460. By courier: Room 604W38, Crystal Mall #2, 1921 Jefferson Davis Highway, Arlington, VA 22202. For the tributyltin product, Jill Bloom, (703) 308-8019; email address bloom.jill@epa.gov (Same address as above, Room 604W53).

SUPPLEMENTARY INFORMATION:

I. General Information

A. Does this Action Apply to Me?

This action is directed to the public in general. You may be potentially affected by this action if you manufacture, sell, distribute, or use pesticides. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person or persons listed under FOR FURTHER INFORMATION CONTACT.

B. How Can I Get Additional Information, Including Copies of this Document and Other Related Documents?

1. Electronically. You may obtain electronic copies of this document, and certain other related documents that might be available electronically, from the EPA Internet homepage at http://www.epa.gov/. To access this document, on the homepage select “Laws and Regulations” “Regulations and Proposed Rules” and then look up the entry for this document under the “Federal Register—Environmental Documents.” You can also go directly to the Federal Register listings http://www.epa.gov/fedrgstr/.

2. In person. Contact Cecelia R Watson at 1921 Jefferson Davis Highway, Crystal Mall #2, Rm. 604W38, Arlington VA, telephone number (703) 305-4329. Available from 6:30 am to 4:00 pm, Monday through Friday, except for federal holidays. Contact Jill Bloom at the same address, Room 604W53, telephone number (703) 308-8019.

C. How and to Whom Do I Submit Comments or request withdrawal?

You may submit comments or, if you are a registrant, request withdrawal, through the mail, in person, or electronically.

1. By mail. Registrants who choose to withdraw a request for cancellation of the product pronamide must submit such withdrawal in writing to Cecelia R Watson, at the above address, postmarked April 24, 2002. Registrants who choose to withdraw a request for cancellation of the tributyltin product must submit such withdrawal in writing to Jill Bloom, at the above address, postmarked April 24, 2002.

2. In person or by courier. Deliver your withdrawal request to: Document Processing Desk (DPD), Information Services Branch, Office of Pesticides Programs (OPP), Environmental Protection Agency, Rm. 266A, Crystal Mall #2, 1921 Jefferson Davis Hwy., Arlington, VA. The DPD is open from 8:00 am to 4:30 pm, Monday through Friday, except for federal holidays. The DPD telephone number is (703) 305-5263.

3. Electronically. You may submit your comments electronically by e-mail to: watson.cecelia@epa.gov or bloom.jill@epa.gov. Do not submit any information electronically that you consider to be CBI. Avoid the use of special characters and any form of encryption. Electronic submissions will be accepted in WordPerfect 6.1/8.0 or ASCII file format.

II. What Action is the Agency Taking?

Section 6(f)(1) of FIFRA provides that a registrant of pesticide products may at any time request that any of its pesticides registrations be cancelled. The Act further provides that, before acting on the request, EPA must publish a notice of receipt of any such request in the Federal Register. Thereafter, the Administrator may approve such a request.

This notice announces receipt by the Agency of request from registrants to cancel certain product registrations. These registrations are listed in the following Table 1 by registration number, product name, and active ingredient.

Table 1.—Registrations Requested to be Cancelled
Registration No. | Product Name | Active Ingredients
8660-85 | Green Up Kerb WB 50 | Pronamide
23566-17 | 673 Black Co-Poly Crab Pot Paint | Tributyltin methacrylate
Note: EPA companies number 8660 and 23566 have waived the 180 day comment period for registrations listed.

Users of these products who desire continued use of the products being cancelled should contact the applicable registrant before [insert date 30 days from date of publication in Federal Register] unless indicated otherwise, to discuss withdrawal of the application for amendment. This 30-day period also permits interested members of the public to intercede with the registrant prior to the Agency's approval of the deletion.

The following Table 2 includes the names and addresses of record for all registrants of the products in Table 1, in sequence by EPA company number.

Table 2.—Registrants Requesting Voluntary Cancellation
EPA Company No | Company Name and Address
8660 | Earth Care, Division of United Corporation, P.O. Box 142642,St. Louis, MO 63114-0642
23566 | International Paint Inc.,2270 Morris Ave., Union, NJ 07083

III. Provision for Disposition of Existing Stocks

Earth Care and International Paints Inc. have informed the Agency that they do not need any time to sell or distribute their existing stock of products EPA Reg. No. 8660-85 and EPA Reg No. 23566-17. As a result, the Agency has not authorized further sale or distribution of these products by the registrants.

IV. Procedures for Withdrawal of Request

Registrants who choose to withdraw a request for cancellation must submit such withdrawal in writing to the person listed under FOR FURTHER INFORMATION CONTACT, postmarked before September 23, 2002. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

List of Subjects

Environmental protection, Pesticides and pests.

Dated: March 15, 2002.
Lois A. Rossi,
Director, Special Review and Reregistration Division, Office of Pesticide Programs.

[FR Doc. 02-7100 Filed 3-22-02; 8:45 a.m.]

BILLING CODE 6560-50-S